DEPARTMENT OF AGRICULTURE

Forest Service

Huron-Manistee National Forests, Michigan, Land and Resource Management Plan Supplemental Environmental Impact Statement

AGENCY: Forest Service, USDA.

ACTION: Notice of Intent to prepare a Supplemental Environmental Impact Statement.

SUMMARY: The Huron-Manistee National Forests (Forest Service) will prepare a supplemental environmental impact statement (SEIS) to assess the environmental impacts of a Land and Resource Management Plan alternative that would ban firearm hunting and snowmobile use (subject to existing rights) on National Forest System lands within Semiprimitive Nonmotorized Management Areas and would ban firearm hunting (subject to existing rights) in Primitive Area (Nordhouse Dunes Wilderness). This analysis will remedy deficiencies identified by the U.S. Court of Appeals for the Sixth Circuit Court in the original Environmental Impact Statement prepared for the Huron-Manistee Land and Resource Management Plan Revision of 2006. The decision which results may amend the Huron-Manistee National Forests Land and Resource Management Plan. The objectives of the analysis, consistent with existing regulatory direction as identified by the court, are to coordinate recreation planning with the State of Michigan with the aim (to the extent feasible) to reduce duplication in meeting recreation demands, to minimize conflicts between off-road vehicle use and other uses of the Forests, and to identify recreational preferences of user groups and the settings needed to provide quality recreational opportunities.

DATES: Comments concerning the scope of the analysis must be received by February 11, 2011.

ADDRESSES: Send written comments to Lee Evison, Forest Planner, Huron-Manistee National Forests, 1755 S. Mitchell Street, Cadillac, MI, 49601; fax: 231-775-5551. Send electronic comments to: comments-eastern-huron-manistee@fs.fed.us. Comments sent via e-mail should contain the subject line: “Forest Plan SEIS”.

Comments received in response to this solicitation, including names and addresses of those who comment, will be considered part of the public record on this proposed action and will be available for public inspection. Comments submitted anonymously will be accepted and considered; however, anonymous comments may limit the respondent's ability to participate in subsequent administrative or judicial review.

FOR FURTHER INFORMATION CONTACT: Ken Arbogast, Huron-Manistee National Forests; telephone: 231-775-2421; fax: 231-775-5551. See address above under ADDRESSES. Copies of documents may be requested at the same address. Another means of obtaining information is to visit the Forest Web page at http://www.fs.fed.us/r9/hmnf then click on “Land and Resources Management”, then “Forest Land and Resource Management Plan”.

Individuals who use telecommunication devices for the deaf (TTY) may call 1-231-775-3183.

SUPPLEMENTARY INFORMATION:

Purpose and Need for Action

On September 29, 2010, the United States Court of Appeals for the Sixth Circuit issued an opinion in the case of Meister v. U.S. Department of Agriculture, et al., No. 09-1712 (September 29, 2010), which found deficiencies in the analysis supporting the revised Land and Resource Management Plan for the Huron-Manistee National Forests. Specifically, the court found that:

1. The Forest Service's estimates of snowmobile and cross-country visitors to the Forests were arbitrary,

2. The Service did not coordinate its recreation planning with the State of Michigan, as required, to reduce duplication in recreation demands with respect to gun hunting and snowmobiling,

3. The Service's reasons for keeping certain trails open to snowmobile use were arbitrary, and

4. The Service violated the National Environmental Policy Act when it failed to consider closing Primitive and Semiprimitive Nonmotorized areas to gun hunting and snowmobile use.

Proposed Action

The Forest Service proposes to remedy the deficiencies identified by the court by supplementing the Environmental Impact Statement for the Forest Land and Resource Management Plan. The supplement will evaluate an alternative that closes Semiprimitive Nonmotorized Management Areas to snowmobile use and firearm hunting (subject to existing rights) and closes Primitive Area (Nordhouse Dunes Wilderness) to firearm hunting (subject to existing rights).

The Forest Service proposes to utilize such studies as: The National Visitor Use Monitoring study (2009); Michigan's Statewide Comprehensive Outdoor Recreation Plan (SCORP 2008-2012); Social and Economic Assessment for the Michigan National Forests (2003); Social and Economic Assessment for Michigan's State Forests (2006); Demographics, Recruitment, and Retention of Michigan Hunters by Brian J. Frawley; Demographics, Recruitment, and Retention of Michigan Hunters: 2005 Update; A Portrait of Hunters and Hunting License Trends in Michigan by the National Shooting Sports Foundation on Behalf of the Michgan Department of Natural Resources; Assessment of Snowmobiling in Michigan by Snowmobilers with Michigan Trail Permits (2009) by Charles Nelson; Opinions of Selected Stakeholders Concerning Semi-primitive Area Designation in the Huron-Manistee National Forests (1994) by Charles Nelson.

Possible Alternatives

No Action Alternative: The Forest Service would continue to implement the 2006 Forest Plan in its current form. Current direction would continue to guide management of the Semiprimitive Nonmotorized Management Areas and Primitive Area (Nordhouse Dunes Wilderness). There would be no changes to the management of these areas.

Modified Closure Alternative: The Forest Service would ban firearm hunting and snowmobile use in some portion of the 13 existing Semiprimitive Nonmotorized Areas and the Primitive Area (Nordhouse Dunes Wildnerness).

Other reasonable alternatives may be developed to respond to issues raised during public participation.

Lead and Cooperating Agencies

The lead agency for this proposal is the U.S. Forest Service. The Forest Service has invited the Michigan Department of Natural Resources and Environment (MDNRE) to become a Cooperating Agency.

Responsible Official for Lead Agency

The Responsible Official for the decision is the Regional Forester of the Eastern Region of the Forest Service.

Nature of Decision to be Made

The Regional Forester will decide whether or not to amend the Land and Resource Management Plan for the Huron-Manistee National Forests, through the closure of some or all of the Semiprimitive Nonmotorized Management Areas to firearm hunting and snowmobile use (subject to existing rights); and the Primitive Area (Nordhouse Dunes Wilderness) to firearm hunting (subject to existing rights).

Preliminary Issues

We expect issues to include effects on game species and wildlife management, effects on vegetation, and changes to the recreational experience for visitors to the Semiprimitive Nonmotorized Management Areas and the Primitive Area (Nordhouse Dunes Wilderness), as well as the possible effects of the project on tourism in the counties affected.

Permits and Licenses Required

The Forest Service is not required to obtain any permits or licenses in order to implement this proposal.

Scoping Process

This Notice of Intent initiates the scoping process, which guides the development of the SEIS. The Forest Service plans to scope for information by contacting persons and organizations interested or potentially affected by the proposed action through mailings, public announcements, and personal contacts. Comments received on this notice will be used to identify the range of actions, alternatives and effects to be considered in the SEIS.

It is important that respondents provide their comments at such times and in such manner that they are useful to the agency's preparation of the SETS. Therefore, comments must be provided prior to the close of the comment period and should clearly articulate the respondent's concerns and contentions. The submission of timely and specific comments can affect a respondent's ability to participate in subsequent administrative appeal or judicial review.

Public meetings will be held to answer questions on our process and to accept written comments. The time and locations are as follows:

• 1/31/11—Hilton Inn Express of Birch Run, 12150 Dixie Hwy., Birch Run, MI, from 4-8 p.m.;

• 1/31/11—Huron Shores Ranger Station, 5761 North Skeel Rd., Oscoda, MI, from 4-7 p.m.;

• 2/01/11—Hilton Garden Inn, 26000 American Drive, Southfield, MI, from 4-8 p.m.;

• 2/01/11—Mio Ranger Station, 107 McKinley Road, Mio, MI, from 4-7 p.m.;

• 2/02/11—Causeway Bay Hotel (Will be Changing to Best Western), 6820 South Cedar, Lansing, MI, from 4-8 p.m.;

• 2/02/11—Days Inn of Manistee, 1462 US 31 South, Manistee, MI, from 4-7 p.m.;

• 2/03/11—Crowne Plaza, 57000 East 28th St., Grand Rapids, MI, from 4-8 p.m.;

• 2/03/11—Plainfield Township Hall, 885 Eighth Street, Baldwin, MI, from 4-7 p.m.

Dated: December 20, 2010.
Barry Paulson,
Forest Supervisor.

[FR Doc. 2010-32420 Filed 12-27-10; 8:45 am]

BILLING CODE 3410-11-M